DEPARTMENT OF THE TREASURY

Office of Foreign Assets Control

Unblocking of Specially Designated Nationals and Blocked Persons Pursuant to Executive Order 12978

AGENCY: Office of Foreign Assets Control, Treasury.

ACTION: Notice.

SUMMARY: The Treasury Department's Office of Foreign Assets Control (“OFAC”) is publishing the names of seven individuals and one entity whose property and interests in property have been unblocked pursuant to Executive Order 12978 of October 21, 1995, Blocking Assets and Prohibiting Transactions With Significant Narcotics Traffickers.

DATES: The unblocking and removal from the list of Specially Designated Nationals and Blocked Persons (“SDN List”) of the seven individuals and one entity identified in this notice whose property and interests in property were blocked pursuant to Executive Order 12978 of October 21, 1995, is effective on September 11, 2009.

FOR FURTHER INFORMATION CONTACT: Assistant Director, Compliance Outreach & Implementation, Office of Foreign Assets Control, Department of the Treasury, Washington, DC 20220, tel.: 202-622-2490.

SUPPLEMENTARY INFORMATION:

Electronic and Facsimile Availability

This document and additional information concerning OFAC are available from OFAC's Web site (http://www.treas.gov/ofac) via facsimile through a 24-hour fax-on demand service, tel.: (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On September 11, 2009, OFAC removed from the SDN List the seven individuals and one entity listed below, whose property and interests in property were blocked pursuant to the Order:

LEON, Hector, c/o MANUFACTURAS REAL S.A., Bogota, Colombia; DOB 29 Jan 1954; POB Viota, Cundinamarca, Colombia; Cedula No. 19251100 (Colombia); Passport P026720 (Colombia) (individual) [SDNT]

GIL GUIO, Alexandra, c/o DURATEX S.A., Bogota, Colombia; c/o PROMOCIONES E INVERSIONES LAS PALMAS S.A., Bogota, Colombia; c/o CONSTRUCTORA IRAKA S.A., Bogota, Colombia; c/o C.I. OTILIA FLOWERS S.A., Cajica, Cundinamarca, Colombia; c/o CONSTRUCTORA AMERICA S.A., Bogota, Colombia; DOB 11 Oct 1973; POB Colombia; Cedula No. 52145376 (Colombia) (individual) [SDNT]

LOZANO OSPINA, Max Abilio, c/o DURATEX S.A., Bogota, Colombia; c/o PROMOCIONES E INVERSIONES LAS PALMAS S.A., Bogota, Colombia; c/o C.I. OTILIA FLOWERS S.A., Cajica, Cundinamarca, Colombia; c/o CONSTRUCTORA AMERICA S.A., Bogota, Colombia; DOB 23 May 1971; POB Colombia; Cedula No. 79248772 (Colombia) (individual) [SDNT]

SERNA GOMEZ, Adriana Maria, c/o DROBLAM S.A., Cali, Colombia; DOB 22 Jan 1971; Cedula No. 34600630 (Colombia); Passport 34600630 (Colombia) (individual) [SDNT]

LOPRETTO DURAN, Jorge Enrique, Carrera 4 No. 12-20 of. 206, Cartago, Valle, Colombia; c/o INMOBILIARIA EL ESCORIAL LTDA., Cartago, Valle, Colombia; c/o INMOBILIARIA LINARES LTDA., Cartago, Valle, Colombia; c/o INMOBILIARIA PASADENA LTDA., Cartago, Valle, Colombia; c/o VISCAYA LTDA., Cartago, Valle, Colombia; DOB 8 Aug 1962; Cedula No. 16215409 (Colombia); Passport 16215409 (Colombia) (individual) [SDNT]

ANDRADE MENDEZ, Gerardo, c/o ADMINISTRADORA DE SERVICIOS VARIOS CALIMA S.A., Cali, Colombia; c/o CHAMARTIN S.A., Cali, Colombia; DOB 17 Jul 1962; Cedula No. 12189130 (Colombia); Passport 12189130 (Colombia) (individual) [SDNT]

QUINONEZ TORRES, Sergio Plinio, c/o ADMINISTRADORA DE SERVICIOS VARIOS CALIMA S.A., Cali, Colombia; c/o CHAMARTIN S.A., Cali, Colombia; Cedula No. 16723852 (Colombia); Passport 16723852 (Colombia) (individual) [SDNT]

FARMATODO S.A., Diagonal 17 No. 28A-39, Bogota, Colombia; Diagonal 17 No. 28A-80, Bogota, Colombia [SDNT]

Dated: September 11, 2009.
Adam J. Szubin,
Director, Office of Foreign Assets Control.

[FR Doc. E9-22455 Filed 9-17-09; 8:45 am]

BILLING CODE 4811-45-P